DEPARTMENT OF HEALTH AND HUMAN SERVICES

Centers for Disease Control and Prevention

Advisory Committee for Injury Prevention and Control (ACIPC), Science and Program Review Subcommittee Meeting

In accordance with section 10(a)(2) of the Federal Advisory Committee Act (Public Law 92-463), the Centers for Disease Control and Prevention (CDC) announces the following Federal Advisory committee meetings.

Name: ACIPC Science and Program Review Subcommittee.

Time and Date: 1:30 p.m.-5 p.m., November 28, 2000.

Place: The Hyatt Regency Atlanta, 26 Peachtree Street, N.E., Atlanta, Georgia 30303

Status: Open to the public, limited only by the space available.

Purpose: The Subcommittee provides advice on the needs, structure, progress and performance of NCIPC programs. The Subcommittee provides second-level scientific and programmatic review for applications for research grants, cooperative agreements, and training grants related to injury control and violence prevention, and recommends approval of projects that merit further consideration for funding support. The Subcommittee also advises on priorities for research to be supported by contracts, grants, and cooperative agreements and provides concept review of program proposals and announcements.

Matters to be Discussed: The Subcommittee will discuss the national violent death reporting system, NCIPC programmatic reviews, cooperative agreement funding for fiscal year 2000, and the external peer review of intramural research.

Agenda items are subject to change as priorities dictate.

Name: Advisory Committee for Injury Prevention and Control (ACIPC).

Time and Date: 8:30 a.m.-3:30 p.m., November 29, 2000.

Place: The Hyatt Regency Atlanta, 26 Peachtree Street, N.E., Atlanta, Georgia 30303.

Status: Open to the public, limited only by the space available.

Purpose: The Committee advises and makes recommendations to the Secretary, the Assistant Secretary for Health, the Director, CDC, and Director, National Center for Injury Prevention and Control (NCIPC) regarding feasible goals for the prevention and control of injury. The Committee makes recommendations regarding policies, strategies, objectives, and priorities, and reviews progress toward injury prevention and control. The Committee provides advice on the appropriate balance of intramural and extramural research, and also provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements and provides concept review of program proposals and announcements.

Matters to be Discussed: Following the Acting Director's update, which will include an introduction of the new NCIPC Director, NCIPC's Division of Violence Prevention will give an overview of violence against women programs. The Committee will also discuss reports from the November 28, 2000, meetings of the Subcommittee on Family and Intimate Violence Prevention and Subcommittee on Science and Program Review.

This notice is published less than 15 days prior to the meeting due to administrative delay.

Contact Person for More Information: Mr. Thomas E. Blakeney, Acting Executive Secretary, ACIPC, NCIPC, CDC, 4770 Buford Highway, NE, M/S K61, Atlanta, Georgia 30341-3724, telephone 770/488-1481.

The Director, Management Analysis and Services Office, has been delegated the authority to sign Federal Register notices pertaining to announcements of meetings and other committee management activities, for both the Centers for Disease Control and Prevention and the Agency for Toxic Substances and Disease Registry.

Dated: November 15, 2000.
Carolyn J. Russell,
Management Analysis and Services Office, Centers for Disease Control and Prevention.

[FR Doc. 00-29720 Filed 11-16-00; 12:15 pm]

BILLING CODE 4163-18-P